DEPARTMENT OF THE INTERIOR

Fish and Wildlife Service

50 CFR Part 17

DEPARTMENT OF COMMERCE

National Oceanic and Atmospheric Administration

50 CFR Parts 223 and 224

RIN 0648-XB089

[Docket No. 120425024-5503-03]

Endangered and Threatened Species; Identification and Proposed Listing of Eleven Distinct Population Segments of Green Sea Turtles (Chelonia mydas) as Endangered or Threatened and Revision of Current Listings; Public Hearings; Extension of Comment Period

AGENCY: National Marine Fisheries Service (NMFS), National Oceanic and Atmospheric Administration (NOAA), Commerce; United States Fish and Wildlife Service (USFWS), Interior.

ACTION: Proposed rule; extension of comment period and public hearing schedule.

SUMMARY: On March 23, 2015, we (NMFS and USFWS, or the Services) published a proposed rule to revise the green sea turtle (Chelonia mydas; hereafter referred to as the green turtle) listings under the Endangered Species Act (ESA). We proposed to remove the current range-wide listing and, in its place, list eight distinct population segments (DPSs) as threatened and three as endangered. We opened a public comment period that lasted through June 22, 2015, announced a public hearing in Honolulu, Hawaii, and solicited requests for additional public hearings. With this document, we announce additional public hearings in Guam, the Commonwealth of the Northern Mariana Islands (CNMI), and American Samoa. To allow adequate time for comments after the last public hearing, we extend the public comment period through July 27, 2015.

DATES: Public hearings will be held from 6 to 8 p.m., with informational open houses starting at 5:30 p.m. as follows: in Pago Pago, American Samoa on July 6, 2015; in Saipan, CNMI on July 13, 2015; and in Mangilao, Guam on July 15, 2015. The comment period for the proposed rule published on March 23, 2015 (80 FR 15271), has been extended. Comments and information regarding this proposed rule must be received by close of business on July 27, 2015.

ADDRESSES: You may submit comments on the proposed rule, identified by NOAA-NMFS-2012-0154, by any of the following methods:

• Electronic Submissions: Submit all electronic public comments via the Federal e-Rulemaking Portal.

1. Go to www.regulations.gov/#!docketDetail;D=NOAA-NMFS-2012-0154,

2. Click the “Comment Now!” icon, complete the required fields, and

3. Enter or attach your comments.

OR

• Mail: Submit written comments to Green Turtle Proposed Listing Rule, Office of Protected Resources, National Marine Fisheries Service, 1315 East-West Highway, Room 13535, Silver Spring, MD 20910; or Green Turtle Proposed Listing Rule, U.S. Fish and Wildlife Service, North Florida Ecological Services Office, 7915 Baymeadows Way, Suite 200, Jacksonville, FL 32256.

OR

• Public hearing: Interested parties may provide oral or written comments at one of the public hearings detailed below, to be held at: the Lecture Hall of the American Samoa Community College, Pago Pago, American Samoa; the Multi-Purpose Center, Beach Road (Route 30), Susupe, Saipan, CNMI 96950; the Multi-Purpose Room at the School of Business and Public Administration, University of Guam, Mangilao, Guam 96923.

Instructions: Comments sent by any other method, to any other address or individual, or received after the end of the comment period, may not be considered by the Services. All comments received will be a part of the public record and will generally be posted for public viewing on www.regulations.gov without change. All personal identifying information (e.g., name, address, etc.), confidential business information, or otherwise sensitive information submitted voluntarily by the sender will be publicly accessible. The Services will accept anonymous comments (enter “N/A” in the required fields if you wish to remain anonymous). The proposed rule is available electronically at http://www.nmfs.noaa.gov/pr/species/turtles/green.htm and http://www.fws.gov/northflorida/seaturtles/turtle%20factsheets/green-sea-turtle.htm.

FOR FURTHER INFORMATION CONTACT: Jennifer Schultz, NMFS (ph. 301-427-8443, email jennifer.schultz@noaa.gov), or Ann Marie Lauritsen, USFWS (ph. 904-731-3032, email annmarie_lauritsen@fws.gov). Persons who use a Telecommunications Device for the Deaf (TDD) may call the Federal Information Relay Service (FIRS) at 1-800-877-8339, 24 hours a day, and 7 days a week.

SUPPLEMENTARY INFORMATION:

Background

The green turtle is currently listed under the ESA as a threatened species globally, with the exception of the Florida and Mexican Pacific coast breeding populations, which are listed as endangered. On March 23, 2015 (80 FR 15271), the Services published a proposed rule to revise these listings because we find that the green turtle is composed of 11 distinct population segments (DPSs) that qualify as “species” for listing under the ESA. We proposed to remove the current range-wide listing and, in its place, list eight DPSs as threatened and three as endangered. We proposed to list the Central West Pacific DPS (including green turtles originating from Guam and CNMI) and the Central South Pacific DPS (including green turtles originating from American Samoa) as endangered. We also proposed to apply existing protective regulations to the DPSs and to continue the existing critical habitat designation (i.e., waters surrounding Culebra Island, Puerto Rico) in effect for the North Atlantic DPS. We solicited comments on these proposed actions; we indicated that comments must be received by June 22, 2015.

We received several requests for additional public hearings. In response to the requests, by this notice we announce that we will host additional public hearings in Guam, CNMI, and American Samoa, and extend the public comment period through July 27, 2015. Previously submitted comments do not need to be resubmitted.

Public Hearings

The Services will hold a public hearing in Pago Pago, American Samoa. Interested parties may provide oral or written comments at this hearing, which will be held on July 6, 2015 from 6 to 8 p.m., with an informational open house starting at 5:30 p.m., at Lecture Hall of the American Samoa Community College.

The Services will hold a public hearing in Saipan, CNMI. Interested parties may provide oral or written comments at this hearing, which will be held on July 13, 2015 from 6 to 8 p.m., with an informational open house starting at 5:30 p.m., at the Multipurpose Center, Beach Road, Call Box 1007, Saipan, CNMI 96950.

The Services will hold a public hearing in Mangilao, Guam. Interested parties may provide oral or written comments at this hearing, which will be held on July 15, 2015 from 6 to 8 p.m., with an informational open house starting at 5:30 p.m., at the Multi-Purpose Room of the School of Business and Public Administration, University of Guam, Mangilao, Guam 96923.

Special Accommodations

These hearings will be physically accessible to people with disabilities. Requests for sign language interpretation or other accommodations should be directed to Jennifer Schultz (see FOR FURTHER INFORMATION CONTACT) as soon as possible, but no later than 7 business days prior to the hearing date.

Authority: 16 U.S.C. 1531 et seq.

Dated: June 5, 2015.
Samuel D. Rauch III,
Deputy Assistant Administrator for Regulatory Programs, National Marine Fisheries Service.
Dated: June 10, 2015.
Gary Frazer,
Acting Director, U.S. Fish and Wildlife Service.

[FR Doc. 2015-14906 Filed 6-16-15; 8:45 am]

BILLING CODE 3510-22-P